DEPARTMENT OF AGRICULTURE

Natural Resources Conservation Service

Thirtymile Creek Watershed, MT

AGENCY: Natural Resources Conservation Service, USDA.

ACTION: Notice of deauthorization of Federal funding.

SUMMARY: Pursuant to the Watershed Protection and Flood Prevention Act, Public Law 83-566, and the Natural Resources Conservation Service Guidelines (7 CFR 622), The Natural Resources Conservation Service gives notice of the deauthorization of Federal funding for the Thirtymile Creek Watershed Project, Blaine County, Montana effective July 1, 2004.

FOR FURTHER INFORMATION CONTACT: Dave White, State Conservationist, Natural Resources Conservation Service, 10 East Babcock, Room 443, Bozeman, Montana 59715, Telephone: (406) 587-6811.

(Catalog of Federal Domestic Assistance Program No. 10.904, Watershed Protection and Flood Prevention. Office of Management and Budget Circular A-95 regarding State and Local clearinghouse review of Federal and federally assisted programs and projects is Applicable)
Dated: July 2, 2004.
Dave White,
State Conservationist.

[FR Doc. 04-15781 Filed 7-12-04; 8:45 am]

BILLING CODE 3410-16-P